DEPARTMENT OF AGRICULTURE

Office of the Secretary

[Docket No. 00-072-1]

Declaration of Extraordinary Emergency Because of an Atypical Transmissible Spongiform Encephalopathy (Prion Disease) of Foreign Origin

A transmissible spongiform encephalopathy (TSE) (prion disease) of foreign origin has been detected in the United States. It is different from TSE's previously diagnosed in the United States. The TSE was detected in the progeny of imported sheep. The imported sheep and their progeny are under quarantine in Vermont.

Transmissible spongiform encephalopathies are degenerative fatal diseases that can affect livestock. TSE's are caused by similar, as yet uncharacterized, agents that usually produce spongiform changes in the brain.

Post-mortem analysis has indicated positive results for an atypical TSE of foreign origin in four sheep in Vermont. Because of the potentially serious consequences of allowing the disease to spread to other livestock in the United States, it is necessary to seize and dispose of those flocks of sheep in Vermont that are affected with or exposed to the disease, and their germ plasm.

The existence of the atypical TSE of foreign origin represents a threat to U.S. livestock. It constitutes a real danger to the national economy and a potential serious burden on interstate and foreign commerce. The Department has reviewed the measures being taken by Vermont to quarantine and regulate the flocks in question and has consulted with appropriate officials in the State of Vermont. Based on such review and consultation, the Department has determined that Vermont does not have the funds to compensate flock owners for the seizure and disposal of flocks affected with or exposed to the disease, and their germ plasm. Without such funds, it will be unlikely to achieve expeditious disposal of the flocks and germ plasm. Therefore, the Department has determined that an extraordinary emergency exists because of the existence of the atypical TSE in Vermont.

This declaration of extraordinary emergency authorizes the Secretary to seize, quarantine, and dispose of, in such manner as he deems necessary, any animals that he finds are affected with or exposed to the disease in question, and their germ plasm, and otherwise to carry out the provisions and purposes of the Act of July 2, 1962 (21 U.S.C. 134-134h). The State of Vermont has been informed of these facts.

Dated: This declaration of extraordinary emergency shall become effective July 14, 2000.
Dan Glickman,
Secretary of Agriculture.

[FR Doc. 00-18367 Filed 7-19-00; 8:45 am]

BILLING CODE 3410-34-P